DEPARTMENT OF HEALTH AND HUMAN SERVICES

Centers for Disease Control and Prevention

[30Day-15-14VL]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing the Adoption and Utility of National Diabetes Education Program (NDEP) Tools and Resources for Health Care Professionals and Health Education Facilitators—New—National Center for Chronic Disease Prevention and Health Promotion (NCCDPHP), Centers for Disease Control and Prevention (CDC).

Background and Brief Description

The National Diabetes Education Program (NDEP) is a joint program of the Centers for Disease Control and Prevention and the National Institutes of Health. The NDEP develops, disseminates, and supports the adoption of evidence-based, culturally and linguistically appropriate tools and resources that emphasize the importance of controlling blood glucose levels, blood pressure, and blood lipids, as well as carrying out other preventive care practices in a timely manner to improve health outcomes and overall quality of life.

In 2012 and 2013, CDC/NDEP collaborated with relevant partners to update two major diabetes education resources: “New Beginnings: A Discussion Guide for Living Well with Diabetes” (hereafter referred to as New Beginnings), and “Working Together to Manage Diabetes: A Guide and Toolkit for Pharmacy, Podiatry, Optometry, and Dentistry” (hereafter referred to as the PPOD Guide and Toolkit). New Beginnings was developed for diabetes educators, health educators, health ministers, lay health workers and others who facilitate discussion groups about diabetes self-management. New Beginnings has been revised to make it a more accessible and flexible resource that can be adapted for use in diabetes self-management education classes and in other settings. The PPOD Guide and Toolkit are targeted to health care providers in pharmacy, podiatry, optometry, and dentistry. The PPOD Guide and Toolkit are designed to promote a collaborative, team-based approach to comprehensive diabetes care. Both resources are being promoted to key target audiences in 2014.

In order to understand how target audiences use the resources and apply the recommended diabetes control strategies, CDC plans to conduct a series of surveys that will assess adoption, use, and satisfaction with the resources. Respondents for the PPOD Guide and toolkit assessment will include health care providers in the private sector, state and local government, and federal government. Respondents for the New Beginnings assessment will include health education facilitators in the private sector and state and local government. CDC will coordinate the information collection and assessment activities with events and opportunities sponsored by professional organizations, and CDC-sponsored Webinars. Survey findings will be used to guide further improvements to the resources, make adjustments to promotional and educational strategies, and inform CDC's technical assistance related to diabetes education.

OMB approval is requested for one year. All information will be collected electronically. Participation in the surveys is voluntary and there are no costs to respondents other than their time. The total estimated annualized burden hours are 233.

Estimated Annualized Burden Hours
Type of respondents | Form name | Number of respondents | Number of responses per respondent | Average burden per response (in hr)
Private sector health care providers | PPOD Guide and Toolkit Follow-up Survey | 80 | 1 | 10/60
| New Beginnings Assessment Survey | 700 | 1 | 15/60
State and Local government health care providers and health education facilitators | PPOD Guide and Toolkit Follow-up Survey | 80 | 1 | 10/60
| New Beginnings Assessment Survey | 100 | 1 | 15/60
Federal Government health care providers | PPOD Guide and Toolkit Follow-up Survey | 40 | 1 | 10/60

Leroy A. Richardson,
Chief, Information Collection Review Office, Office of Scientific Integrity, Office of the Associate Director for Science, Office of the Director, Centers for Disease Control and Prevention.

[FR Doc. 2014-25095 Filed 10-21-14; 8:45 am]

BILLING CODE 4163-18-P